NUCLEAR REGULATORY COMMISSION

Sunshine Act Meeting

DATES: Weeks of May 27, June 3, 10, 17, 24, July 1, 2002.

PLACE: Commissioners' Conference Room, 11555 Rockville Pike, Rockville, Maryland.

STATUS: Public and Closed.

MATTERS TO BE CONSIDERED:

Week of May 27, 2002

Tuesday, May 28, 2002

9:30 a.m.—Discussion of Security Issues (Closed-Ex. 1)

3:00 p.m.—Discussion of Security Issues (Closed-Ex. 1)

Wednesday, May 29, 2002

9:25 a.m.—Affirmation Session (Public Meeting) (If needed)

9:30 a.m.—Briefing on the Status of New Reactor Licensing Activities (Public Meeting) (Contact: Joseph Williams, 301-415-1470)

This meeting will be webcast live at the Web address— www.nrc.gov

Week of June 3, 2002—Tentative

Tuesday, June 4, 2002

1:15 p.m.—Discussion of Intergovernmental Issues (Closed—Ex. 1)

Friday, June 7, 2002

9:00 a.m.—Briefing on Strategic Workforce Planning and Human Capital Initiatives (Closed—Ex. 2)

Week of June 10, 2002—Tentative

There are no meetings scheduled for the Week of June 10, 2002.

Week of June 17, 2002—Tentative

There are no meetings scheduled for the Week of June 17, 2002.

Week of June 24, 2002—Tentative

Tuesday, June 25, 2002

2:00 p.m.—Discussion of Intragovernmental Issues (Closed—Ex. 1)

Wednesday, June 26, 2002

10:30 a.m.—All Employees Meeting (Public Meeting)

1:30 p.m.—All Employees Meeting (Public Meeting)

Week of July 1, 2002—Tentative

Monday, July 1, 2002

2:00 p.m.—Discussion of International Safeguards Issues (Closed—Ex. 9)

* The schedule for Commission meetings is subject to change on short notice. To verify the status of meetings call (recording)—(301) 415-1292. Contact person for more information: David Louis Gamberoni (301) 415-1651.

Additional Information

By a vote of 5-0 on May 22, the Commission determined pursuant to U.S.C. 552b(e) and § 9.107(a) of the Commission's rules that “Discussion of Security Issues (Closed—Ex. 1)” be held on May 28, and on less than one week's notice to the public.

The NRC Commission Meeting Schedule can be found on the Internet at: www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 23, 2002.
David Louis Gamberoni,
Technical Coordinator, Office of the Secretary.

[FR Doc. 02-13328 Filed 5-23-02; 11:25 am]

BILLING CODE 7590-01-M